DEPARTMENT OF COMMERCE

National Oceanic and Atmospheric Administration

[Docket No. 140729626-4626-01]

RIN 0648-XD419

Anticipated RESTORE Act Science Program Federal Funding Opportunity for Fiscal Year 2014

AGENCY: National Ocean Service, National Oceanic and Atmospheric Administration, U.S. Department of Commerce.

ACTION: Notice.

SUMMARY: The National Ocean Service (NOS) of the National Oceanic and Atmospheric Administration (NOAA) notifies the public and potential applicants of an anticipated upcoming Federal Funding Opportunity (FFO) under the RESTORE Act Science Program, and of the short-term priorities for the program that NOS expects will be addressed in the FFO.

DATES: N/A. No applications are being requested at this time. NOAA anticipates publishing the FFO sometime during fall 2014, subject to the availability of funds and pending the release of the Department of the Treasury Regulations for the Gulf Coast Restoration Trust Fund.

ADDRESSES: N/A. No applications are being requested at this time.

FOR FURTHER INFORMATION CONTACT: For further information, contact: Becky Allee, (becky.allee@noaa.gov, 228-688-1701).

SUPPLEMENTARY INFORMATION: Section 1604 of the Resources and Ecosystems Sustainability, Tourist Opportunities, and Revived Economies of the Gulf Coast States Act of 2012 (RESTORE Act) establishes the Gulf Coast Ecosystem Restoration Science, Observation, Monitoring, and Technology program (Science Program) to be administered by NOAA and to carry out research, observation, and monitoring to support the long-term sustainability of the ecosystem, fish stocks, fish habitat, and the recreational, commercial, and charter fishing industry in the Gulf of Mexico. NOAA plans to issue the initial FFO under the RESTORE Act Science Program during the fall of 2014, subject to the availability of funds and pending the release of the Department of the Treasury Regulations for the Gulf Coast Restoration Trust Fund.

Please note that there are no applications or application forms associated with this notice. This action is merely intended to assist potential applicants prepare for the competitive process to award funding by identifying RESTORE Act Science Program topical areas, setting out short-term program priorities, and outlining the program parameters which will guide funding in response to the anticipated FFO. Specifically, NOAA anticipates that the initial FFO under the RESTORE Act Science Program will address the three short-term priorities identified in the RESTORE Act Science Plan Framework, further refined by three topical areas focusing on: (1) Ecosystem and living marine resources management—improving understanding of the Gulf of Mexico Large Marine Ecosystem; (3) climate change and extreme weather impacts on sustainability of restoration—how to incorporate aspects of climate change and weather impacts into restoration planning; and (3) integration of social/behavioral/economic—science into restoration and management of the Gulf of Mexico Ecosystem.

The parameters of the RESTORE Act Science Program, including the geographic scope of the Program, anticipated duration of the Program, and explanation of the eligibility of potential applicants, are outlined in the Science Plan Framework, which may be accessed online at http://restoreactscienceprogram.noaa.gov/.

These priorities and topical areas will be explained in greater detail in the forthcoming FFO, which will also request applications and describe the application process.

Technical Program Information: Becky Allee, NOS Senior Scientist, 228-688-1701, Internet: becky.allee@noaa.gov.

Grant Administration Information: Laurie Golden, NCCOS/CSCOR Grants Administrator, 301-713-3338/ext 151, Internet: laurie.golden@noaa.gov.

Other Information

Administrative Procedure Act: Notice and comment are not required under the Administrative Procedure Act, (5 U.S.C. 553), or any other law, for notices relating to public property, loans, grants, benefits or contracts (5 U.S.C. 553(a)). Because notice and comment is not required, a Regulatory Flexibility Analysis is not required and has not been prepared for this notice, (5 U.S.C. 601 et seq).

Paperwork Reduction Act: Notwithstanding any other provision of law, no person is required to respond to, nor shall any person be subject to a penalty for failure to comply with a collection of information subject to the requirements of the Paperwork Reduction Act, unless that collection displays a currently valid OMB Control Number. This notice involves no collection of information, although the FFO that NOAA anticipates issuing in fall 2014 will have such a requirement.

Dated: August 7, 2014.
W. Russell Callender,
Deputy Assistant Administrator, National Ocean Service, National Oceanic and Atmospheric Administration.

[FR Doc. 2014-19238 Filed 8-13-14; 8:45 am]

BILLING CODE 3510-JS-P